DEPARTMENT OF HOUSING AND URBAN DEVELOPMENT

[Docket No. FR-5200-C-01A1]

Notice of HUD's Fiscal Year (FY) 2008 SuperNOFA for HUD's Discretionary Grant Programs; Correction for Section 202 and Section 811 Programs

AGENCY: Office of the Secretary, HUD.

ACTION: Super Notice of Funding Availability (SuperNOFA) for HUD Discretionary Grant Programs; correction.

SUMMARY: On March 19, 2008, HUD published its Notice of Fiscal Year (FY) 2008 Notice of Funding Availability (NOFA); Policy Requirements and General Section to HUD's FY2008 NOFAs for Discretionary Programs (General Section). On May 12, 2008, HUD published its FY2008 SuperNOFA, for HUD's Discretionary Grant Programs. This document makes corrections or clarifications to the Section 202 Housing for the Elderly Program (Section 202 Program), and Section 811 Supportive Housing For Persons With Disabilities (Section 811 Programs).

DATES: The application submission dates for the program sections of the SuperNOFA remain as published in the Federal Register on May 12, 2008.

FOR FURTHER INFORMATION CONTACT: Questions regarding the General Section of March 19, 2008, should be directed to the NOFA Information Center between the hours of 10 a.m. and 6:30 p.m. Eastern Time at (800) HUD-8929. Hearing-impaired persons may call 800-HUD-2209. For the programs listed in this notice, please contact the office or individual listed under Section VII of the Section 202 and Section 811 program sections of the SuperNOFA, published on May 12, 2008.

SUPPLEMENTARY INFORMATION: On March 19, 2008 (73 FR 14882), HUD published its Notice of Fiscal Year (FY) 2008 Notice of Funding Availability (NOFA); Policy Requirements and General Section to HUD's FY2008 NOFAs for Discretionary Programs (General Section). Early publication of the General Section was intended to provide prospective applicants additional time to become familiar with and address those provisions in the General Section that constitute part of almost every application. On May 12, 2008 (73 FR 27032), HUD published its Notice of HUD's Fiscal Year (FY) 2008, SuperNOFA for HUD's Discretionary Grant Programs. The FY2008 SuperNOFA announced the availability of approximately $1.02 billion in HUD assistance. This notice published in today's Federal Register makes technical corrections to the Section 202 Housing for the Elderly Program (Section 202 Program), and Section 811 Supportive Housing For Persons With Disabilities (Section 811 Program).

Summary of Technical Corrections

Summaries of the technical corrections made by this document follow. The page number shown in brackets identifies where the individual funding availability announcement that is being corrected can be found in the May 12, 2008, SuperNOFA. The technical correction described in today's Federal Register will also be reflected in the application instructions located on Grants.gov/Apply. Applicants who have submitted their applications prior to this publication can choose to resubmit an updated application that reflects the corrections and clarifications. The last application received and validated by Grants.gov by the deadline date will be the application that is reviewed and rated.

Section 202 Housing for the Elderly Program (Section 202 Program) [27296]

On page 27296, Overview Information, Section D., first column, HUD inadvertently listed an incorrect Funding Opportunity Number and is correcting the Funding Opportunity Number.

On page 27310, Section IV.E.5., first column, HUD inadvertently cited the authority for the requirement that requires that funds be disbursed prior to September 30, 2011, and is correcting this citation.

On pages 27312-27312, Section V.A.3. Rating Factor 3, Soundness of Approach, HUD inadvertently omitted a rating factor applicable to applications that include sites that are not permissively zoned for the intended use.

On page 27316, Section VI.C.1, second and third paragraphs, center column, HUD is clarifying the recording requirements using the Logic Model.

These corrections are also reflected in the instructions found on Grants.gov/Apply. Applicants must download the instructions to receive all forms and instructions related to this NOFA. Applicants are encouraged to read the instructions on Grants.gov/Apply prior to submitting your application in response to the Section 202 Program funding opportunity.

Section 811 Supportive Housing for Persons With Disabilities (Section 811 Program) [27319]

On page 27340, section V.A.5.c and d, first column, HUD incorrectly included rating factors that are not applicable to this competition.

On page 27342, Section VI.C.1, second and third paragraphs, center column, HUD is clarifying the recording requirements using the Logic Model.

These corrections are also reflected in the instructions found on Grants.gov/Apply. Applicants must download the instructions to receive all forms and instructions related to this NOFA. Applicants are encouraged to read the instructions on Grants.gov/Apply prior to submitting your application in response to the Section 811 Programs funding opportunity.

Accordingly, in the Notice of HUD's FY2008, Notice of Funding Availability (NOFA), Policy Requirements and General Section to the SuperNOFA for HUD's Discretionary Grant Programs, beginning at 73 FR 27032, in the issue of May 12, 2008, the following corrections are made.

1. Section 202 Supportive Housing for the Elderly Program

On page 27296, Overview Information, Section D, first column, the Funding Opportunity Number is corrected to read as follows:

D. Funding Opportunity Number: FR-5200-N-26; OMB Approval Number is 2502-0267.

On page 27310, Section IV.E.5., HUD is correcting the second sentence of this paragraph to read as follows:

“Under 31 U.S.C. Section 1551, no funds can be disbursed fro the account after September 30, 2016.”

On page 27313, Section V.A.3. Rating Factor 3, Soundness of Approach, HUD is adding the following rating factor:

m. (-1). The site(s) is not permissively zoned for the intended use.

On page 27316, Section VI.C.1., second and third paragraphs, center column, HUD is clarifying the recording requirements using the Logic Model to read as follows:

“1. The Program Outcome Logic Model (Form HUD-96010) must be completed indicating the proposed measures against the proposed activities/output and proposed outcome(s) for the appropriate year. The proposed measures should be entered in the “Pre” column of the form. The Logic Model has been designed to clearly identify the stages of the development process and it must present a realistic annual projection of outputs and outcomes that demonstrates your full understanding of the development process. Using the “Year One” through “Year Three” tabs on the Logic Model, you must demonstrate your ability to ensure that the proposed measures will result in the timely development of your project. To provide for greater consistency in reporting, you must include all activities and outcomes excepted per year of the period of performance. Note: The reported outcome of an identified activity/output may be realized in a different year.

The Logic Model will capture information in two stages. Stage one will demonstrate your ability to develop the project within the required timeframe. This stage will capture data that relates to initial closing, construction, and final closing. Stage one will require the submission of a completed form HUD-96010, Logic Model on an annual basis, beginning with the date of the Agreement Letter and concluding with the date of Final Closing. At the time of the Project Planning Conference, HUD and the applicant will finalize the services and activities in association with this Logic Model and the development timeline. On an annual basis, applicants will report against the finalized logic model by documenting the achieved measures in the “Post” column. (Note: Applicants are not required to complete the YTD (year-to-date) column.) The final reporting requirement for the Logic Model will require that the applicant use the “Total” worksheet to fully document the activities and outcomes as well as the associated measures that have occurred during the period of performance. In addition, a response to each of the program management evaluation questions is required at time of final report.

The second stage will require the Owner to submit a completed form HUD-96010, Logic Model on an annual basis, beginning one year after the date of the final logic model submission that was required in stage one and concluding at the conclusion of the mortgage. Stage two will require the Owner to document the services/activities that are made available to tenants and the expected outcomes and measures of such services.”

2. Section 811 Supportive Housing for Persons With Disabilities (Section 811 Programs), Beginning at Page 27319

On page 27340, section V.A.5., first column, HUD is deleting paragraphs c and d.

On page 27342, Section VI.C.1., second and third paragraphs, center column, center column, HUD is clarifying the recording requirements using the Logic Model to read as follows:

“1. The Program Outcome Logic Model (Form HUD-96010) must be completed indicating the proposed measures against the proposed activities/output and proposed outcome(s) for the appropriate year. The proposed measures should be entered in the “Pre” column of the form. The Logic Model has been designed to clearly identify the stages of the development process and it must present a realistic annual projection of outputs and outcomes that demonstrates your full understanding of the development process. Using the “Year One” through “Year Three” tabs on the Logic Model, you must demonstrate your ability to ensure that the proposed measures will result in the timely development of your project. To provide for greater consistency in reporting, you must include all activities and outcomes excepted per year of the period of performance. Note: The reported outcome of an identified activity/output may be realized in a different year.

The Logic Model will capture information in two stages. Stage one will demonstrate your ability to develop the project within the required timeframe. This stage will capture data that relates to initial closing, construction, and final closing. Stage one will require the submission of a completed form HUD-96010, Logic Model on an annual basis, beginning with the date of the Agreement Letter and concluding with the date of Final Closing. At the time of the Project Planning Conference, HUD and the applicant will finalize the services and activities in association with this Logic Model and the development timeline. On an annual basis, applicants will report against the finalized logic model by documenting the achieved measures in the “Post” column. (Note: Applicants are not required to complete the YTD (year-to-date) column.) The final reporting requirement for the Logic Model will require that the applicant use the “Total” worksheet to fully document the performance and outcomes as well as the associated measures that have occurred during the period of performance. In addition, a response to each of the program management evaluation questions is required at time of final report.

The second stage will require the Owner to submit a completed form HUD-96010, Logic Model on an annual basis, beginning one year after the date of the final logic model submission that was required in stage one and concluding at the conclusion of the mortgage. Stage two will require the Owner to document the services/activities that are made available to tenants and the expected outcomes and measures of such services.”

Dated: June 2, 2008.
Keith A. Nelson,
Assistant Secretary for Administration.

[FR Doc. E8-12807 Filed 6-6-08; 8:45 am]

BILLING CODE 4210-67-P